FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4656N.

Name: Barsan International, Inc.

Address: 50 Cragwood Road, Third Floor, South Plainfield, NY 07080.

Date Revoked: October 24, 2001.

Reason: Failed to maintain a valid bond.

License Number: 7913N.

Name: Conterm Consolidation Services (USA), Inc.

Address: 555 East Ocean Blvd., Suite 700, Long Beach, CA 90802.

Date Revoked: October 24, 2001.

Reason: Failed to maintain a valid bond.

License Number: 4148F.

Name: Fleura Meler dba US Western Forwarders.

Address: 19528 Ventura Blvd., Suite 380, Tarzana, CA 91356.

Date Revoked: October 24, 2001.

Reason: Failed to maintain a valid bond.

License Number: 3261N.

Name: Geologistics Services, Inc. dba Matrix Container Lines.

Address: 205 South Whiting Street, Suite 500, Alexandria, VA 22304.

Date Revoked: October 24, 2001.

Reason: Failed to maintain a valid bond.

License Number: 15765N.

Name: Rush Interamerican Cargo Services, Inc.

Address: 10862 NW 27th Street, Miami, FL 33172.

Date Revoked: November 1, 2001.

Reason: Failed to maintain a valid bond.

License Number: 16999N.

Name: Sonic Container Line, Inc.

Address: 870 Sivert Drive, Wood Dale, IL 60191.

Date Revoked: November 1, 2001.

Reason: Failed to maintain a valid bond.

License Number: 16470N.

Name: South Beach Maritime Company.

Address: 8626 NW 55th Place, Coral Springs, FL 33067.

Date Revoked: November 6, 2001.

Reason: Surrendered license voluntarily.

License Number: 16838N.

Name: Webtrans Logistics, Inc. dba ANC International.

Address: 21136 S. Wilmington Avenue, #110, Carson, CA 90810.

Date Revoked: October 27, 2001.

Reason: Failed to maintain a valid bond.

Sandra L. Kusumoto,
Director, Bureau of Consumer Complaints and Licensing.

[FR Doc. 01-31266 Filed 12-18-01; 8:45 am]

BILLING CODE 6730-01-P